DEPARTMENT OF THE INTERIOR

Fish and Wildlife Service

50 CFR Part 16

RIN 1018-AF88

Importation or Shipment of Injurious Wildlife: Zebra Mussel (Dreissena polymorpha)

AGENCY: Fish and Wildlife Services, Interior.

ACTION: Final rule, correction.

SUMMARY: The U.S. Fish and Wildlife Service (we) corrects 50 CFR 16.13 by adding the zebra mussel (Dreissena polymorpha), a small bivalve mollusk native to Europe, to the list of injurious fish, mollusks, and crustaceans, which are subject to restrictions under the Lacey Act (18 U.S.C. 42). On November 7, 1991 (56 CFR 56942), we added the zebra mussel to the list of injurious wildlife, but it was inadvertently omitted in a subsequent amendment to 50 CFR Part 16 (58 FR 58979, Nov. 5, 1993). This rulemaking corrects the omission and continues the prohibition on the importation, acquisition, or transportation of live zebra mussels, veligers, or viable eggs thereof into or between the continental United States, the District of Columbia, Hawaii, the Commonwealth of Puerto Rico, or any territory or possession of the United States.

DATES: This action is effective June 13, 2000.

ADDRESSES: Chief, Division of Fish and Wildlife Management Assistance, U.S. Fish and Wildlife Service, 4401 North Fairfax Drive, Suite 840, Arlington, VA 22203.

FOR FURTHER INFORMATION CONTACT: Hannibal Bolton, Chief, Division of Fish and Wildlife Management Assistance, telephone (703) 358-1718.

SUPPLEMENTARY INFORMATION: The Nonindigenous Aquatic Nuisance Prevention and Control Act of 1990 (Pub. L. 101-646, 104 Stat. 4761) was passed by Congress on October 27, 1990, and signed by President Bush. Section 1208 of that law contains a provision that amends the Lacey Act (18 U.S.C. 42) by adding the zebra mussel to the list of injurious animals contained therein. This provision required addition of the zebra mussel to implementing regulations in 50 CFR 16.13. On November 7, 1991, we added zebra mussels to 50 CFR part 16 (56 FR 56942). In a subsequent final rule affecting part 16, we inadvertently omitted the zebra mussel.

Background

The regulations contained in 50 CFR part 16 implement the Lacey Act as amended. Under the terms of the law, the importation of certain named wildlife is prohibited, with exceptions. Additionally, the Secretary of the Interior is authorized to prescribe by regulations other nonindigenous wild animals, or viable eggs thereof, which are deemed to be injurious or potentially injurious to the health and welfare of human beings; to the interests of agriculture, Forestry, and horticulture; or to the welfare and survival of wildlife or wildlife resources of the United States. The Nonindigenous Aquatic Nuisance Prevention and Control Act of 1990 added the zebra mussel to the statutory list. We amended 50 CFR 16.13 to reflect the present list of prohibited wildlife. By adding the zebra mussel to the list of injurious fish, mollusks, and crustaceans in 18 U.S.C 42 and in 50 CFR 16.13, their acquisition, importation into, or transportation between the continental United States, the District of Columbia, Hawaii, the Commonwealth of Puerto Rico, or any territory or possession of the United States by any means whatsoever is prohibited except by permit for zoological, educational, medical, or scientific purposes, or by Federal agencies without a permit solely for their own use upon filing a written declaration with the District Director of Customs at the port of entry. In addition, no live zebra mussel, viable eggs, or progeny thereof acquired under permit may be sold, donated, traded, loaned, or transferred to any other person unless such person has a permit issued by the director of the Service.

List of Subjects in 50 CFR Part 16

Fish, Imports, Reporting and recordkeeping requirements, Transportation, Wildlife.

Accordingly, 50 CFR part 16 is amended as described below:

PART 16—INJURIOUS WILDLIFE

1. The authority citation for part 16 continues to read as follows:

Authority: 18 U.S.C. 42.

2. Section 1613(a)(2) is revised to read as follows:

§ 16.13 Importation of live or dead fish, mollusks, and crustaceans, or their progeny or eggs.

(a) * * *

(2) The importation, transportation, or acquisition of any live fish or viable eggs of the walking catfish, family Clariidae; live mitten crabs, genus Eriochei, or their viable eggs; and live mollusks, veligers, or viable eggs of zebra mussels, genus Dreissena, are proibited except as provided under the terms and conditions set forth in § 16.22.

* * * * *

Dated: May 5, 2000.
Donald J. Barry,
Assistant Secretary for Fish and Wildlife and Parks.

[FR Doc. 00-14804 Filed 6-12-00; 8:45 am]

BILLING CODE 4310-55-M